NUCLEAR REGULATORY COMMISSION

[[NRC-2020-0001]

Sunshine Act Meetings

TIME AND DATE: Weeks of October 12, 19, 26, November 2, 9, 16, 2020.

PLACE: Commissioners' Conference Room, 11555 Rockville Pike, Rockville, Maryland.

STATUS: Public.

Week of October 12, 2020

There are no meetings scheduled for the week of October 12, 2020.

Week of October 19, 2020—Tentative

Wednesday, October 21, 2020

9:30 a.m. Briefing on Human Capital and Equal Employment Opportunity (Public Meeting)

(Contact: Randi Neff: 301-287-0583)

Additional Information: The meeting scheduled on October 21, 2020 at 9:30 a.m., Briefing on Human Capital and Equal Employment Opportunity, was previously scheduled to start at 10 a.m. Due to COVID-19, there will be no physical public attendance. The public is invited to attend the Commission's meeting live by webcast at the web address— https://www.nrc.gov/.

1:00 p.m. All Employees Meeting with the Commissioners (Public Meeting)

(Contact: Maria Arribas-Colon: 301-415-6026)

Additional Information: Due to COVID-19, there will be no physical public attendance. The public is invited to attend the Commission's meeting live by webcast at the web address— https://www.nrc.gov/.

Week of October 26, 2020—Tentative

There are no meetings scheduled for the week of October 26, 2020.

Week of November 2, 2020—Tentative

Thursday, November 5, 2020

9:00 a.m. Strategic Programmatic Overview of the Decommissioning and Low-Level Waste and Nuclear Materials Users Business Lines (Public Meeting)

(Contact: Celimar Valentin-Rodriguez: 301-415-7124)

Additional Information: Due to COVID-19, there will be no physical public attendance.

The public is invited to attend the Commission's meeting live by webcast at the web address— https://www.nrc.gov/.

Week of November 9, 2020—Tentative

There are no meetings scheduled for the week of November 9, 2020.

Week of November 16, 2020—Tentative

Wednesday, November 18, 2020

10:00 a.m. Meeting with the Advisory Committee on the Medical Uses of Isotopes (Public Meeting)

(Contact: Kellee Jamerson: 301-415-7408)

Additional Information: Due to COVID-19, there will be no physical public attendance. The public is invited to attend the Commission's meeting live by webcast at the web address— https://www.nrc.gov/.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., Braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Tyesha.Bush@nrc.gov.

The NRC is holding the meetings under the authority of the Government in the Sunshine Act, 5 U.S.C. 552b.

Dated: October 8, 2020.
For the Nuclear Regulatory Commission.
Denise L. McGovern,
Policy Coordinator, Office of the Secretary.

[FR Doc. 2020-22737 Filed 10-9-20; 11:15 am]

BILLING CODE 7590-01-P